DEPARTMENT OF COMMERCE

International Trade Administration

Rescission of Antidumping and Countervailing Duty Administrative Reviews

AGENCY: Enforcement and Compliance, International Trade Administration, Department of Commerce.

SUMMARY: Based upon the timely withdrawal of all review requests, the Department of Commerce (Commerce) is rescinding the administrative reviews covering the periods of review and the antidumping duty (AD) and countervailing duty (CVD) orders identified in the table below.

DATES: Applicable January 31, 2023.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Based upon timely requests for review, Commerce initiated administrative reviews of certain companies for the periods of review and the AD and CVD orders listed in the table below, pursuant to 19 CFR 351.221(c)(1)(i).¹ All requests for these reviews have been timely withdrawn.²

¹ See Initiation of Antidumping and Countervailing Duty Administrative Reviews, 87 FR 48459 (August 9, 2022); see also Initiation of Antidumping and Countervailing Duty Administrative Reviews, 87 FR 54463 (September 6, 2022); Initiation of Antidumping and Countervailing Duty Administrative Reviews, 87 FR 61278 (October 11, 2022); Initiation of Antidumping and Countervailing Duty Administrative Reviews, 87 FR 74404 (December 5, 2022).

² The letters withdrawing the review requests may be found in Enforcement and Compliance's Antidumping and Countervailing Duty Centralized Electronic Service System (ACCESS). ACCESS is available to registered users at https://access.trade.gov.

Rescission of Review

Pursuant to 19 CFR 351.213(d)(1), Commerce will rescind an administrative review, in whole or in part, if the parties that requested the review withdraw their review requests within 90 days of the date of publication of the notice of initiation for the requested review. All parties withdrew their requests for the reviews listed in the table below within the 90-day deadline. No other parties requested administrative reviews of these AD/CVD orders for the periods noted in the table. Therefore, in accordance with 19 CFR 351.213(d)(1), Commerce is rescinding, in their entirety, the administrative reviews listed in the table below.

³ In the quarterly rescission notice that published on October 26, 2022 (87 FR 64763), Commerce inadvertently listed the wrong period of review for the case above. The correct period of review is listed in this notice.

| Period of review
AD Proceedings
Germany:
Certain Cold-Drawn Mechanical Tubing of Carbon and Alloy Steel, A-428-845 | 6/1/2021-5/31/2022
Seamless Line and Pressure Pipe, A-428-820 | 8/1/2021-7/31/2022
Italy:
Certain Pasta, A-475-818 | 7/1/2021-6/30/2022
Prestressed Concrete Steel Wire Strand, A-475-843 | 11/19/2020-5/31/2022
Japan:
Certain Tin Mill Products, A-588-854 | 8/1/2021-7/31/2022
Mexico:
Refillable Stainless Steel Kegs, A-201-849 | 10/1/2021-9/30/2022
Republic of Korea:
Seamless Carbon and Alloy Steel Standard, Line and Pressure Pipe, A-580-909 ³ | 2/10/21-7/31/2022
Stainless Steel Sheet and Strip in Coils, A-580-834 | 7/1/2021-6/30/2022
Socialist Republic of Vietnam:
Utility Scale Wind Towers, A-552-825 ⁴ | 8/1/2021-7/31/2022
Seamless Refined Copper Pipe and Tube, A-552-831 | 2/1/2021-7/31/2022
Spain:
Prestressed Concrete Steel Wire Strand, A-469-821 | 11/19/2020-5/31/2022
Utility Scale Wind Towers, A-469-823 | 4/2/2021-7/31/2022
Switzerland:
Certain Cold-Drawn Mechanical Tubing of Carbon and Alloy Steel, A-441-801 | 6/1/2021-5/31/2022
Taiwan:
Passenger Vehicle and Light Truck Tires, A-583-869 | 1/6/2021-6/30/2022
The People's Republic of China:
Boltless Steel Shelving Units Prepackaged for Sale, A-570-018 ⁵ | 10/1/2021-9/30/2022
Certain Walk-Behind Lawn Mowers and Parts Thereof, A-570-129 | 12/30/2020-6/30/2022
Steel Propane Cylinders, A-570-086 | 8/1/2021-7/31/2022
CVD Proceedings
India:
Utility Scale Wind Towers, C-533-826 | 1/1/2021-12/31/2021
Republic of Korea:
Stainless Steel Sheet and Strip in Coils, C-580-835 | 1/1/2021-12/31/2021
Socialist Republic of Vietnam:
Utility Scale Wind Towers, C-552-826 | 1/1/2021-12/31/2021
The People's Republic of China:
High Pressure Steel Cylinder, C-570-978 | 1/1/2021-12/31/2020
Steel Propane Cylinders, C-570-087 | 1/1/2021-12/31/2020
Turkey:
Certain Steel Concrete Reinforcing Bar, C-489-830 | 1/1/2021-12/31/2021

Assessment

⁴ As stated in the Federal Register notice of the order, the order applies only to utility scale wind towers produced and exported by CS Wind Vietnam Co., Ltd., otherwise known as CS Wind Tower Co., Ltd., and its affiliated owner, CS Wind Corporation (collectively, the CS Wind Group). See Utility Scale Wind Towers from Canada, Indonesia, the Republic of Korea, and the Socialist Republic of Vietnam: Antidumping Duty Orders, 85 FR 52546, 52548 (August 26, 2020). However, the initiation notice inadvertently included 14 other producers or exporters of utility scale wind towers from the Socialist Republic of Vietnam. See Initiation of Antidumping and Countervailing Duty Administrative Reviews, 87 FR 61278, 61284 (October 11, 2022). We clarify that the administrative review for this order was initiated on entries by the producer/exporter combination to which this order applies (i.e., entries both produced and exported by the CS Wind Group). With the publication of this Federal Register notice, Commerce is rescinding this review. Companies other than the producer/exporter combination specified above are covered by a different order. See Utility Scale Wind Towers from the Socialist Republic of Vietnam: Amended Final Determination of Sales at Less Than Fair Value and Antidumping Duty Order, 78 FR 11150 (February 15, 2013) (Existing Wind Towers Order). The next opportunity to request an administrative review of companies covered under the Existing Wind Towers Order will occur with the publication of the notice of opportunity to request an administrative review for orders with a February anniversary month in February 2023.

⁵ In the initiation notice, Commerce initiated reviews of Ningbo Decko Metal Products Trade and Zhejiang Limai Metal Products Co. Those companies should have been identified as Ningbo Decko Metal Products Trade Co., Ltd., and Zhejiang Limai Metal Products Co. Ltd. See Initiation of Antidumping and Countervailing Duty Administrative Reviews, 87 FR 74404 (December 5, 2022).

Commerce will instruct U.S. Customs and Border Protection (CBP) to assess antidumping and/or countervailing duties on all appropriate entries during the periods of review noted above for each of the listed administrative reviews at rates equal to the cash deposit of estimated antidumping or countervailing duties, as applicable, required at the time of entry, or withdrawal of merchandise from warehouse, for consumption, in accordance with 19 CFR 351.212(c)(1)(i). Commerce intends to issue assessment instructions to CBP no earlier than 35 days after the date of publication of this recission notice in the Federal Register for rescinded administrative reviews of AD/CVD orders on countries other than Canada and Mexico. For rescinded administrative reviews of AD/CVD orders on Canada or Mexico, Commerce intends to issue assessment instructions to CBP no earlier than 41 days after the date of publication of this recission notice in the Federal Register.

Notification to Importers

This notice serves as the only reminder to importers of merchandise subject to AD orders of their responsibility under 19 CFR 351.402(f)(2) to file a certificate regarding the reimbursement of antidumping duties and/or countervailing duties prior to liquidation of the relevant entries during the review period. Failure to comply with this requirement could result in the presumption that reimbursement of antidumping duties and/or countervailing duties occurred and the subsequent assessment of doubled antidumping duties.

Notification Regarding Administrative Protective Order

This notice also serves as the only reminder to parties subject to administrative protective orders (APO) of their responsibility concerning the disposition of proprietary information disclosed under APO in accordance with 19 CFR 351.305(a)(3), which continues to govern business proprietary information in these segments of these proceedings. Timely written notification of the return or destruction of APO materials or conversion to judicial protective order is hereby requested. Failure to comply with the regulations and the terms of an APO is a sanctionable violation.

Notification to Interested Parties

This notice is issued and published in accordance with sections 751(a)(1) and 777(i)(1) of the Tariff Act of 1930, as amended, and 19 CFR 351.213(d)(4).

Dated: January 25, 2023.
James Maeder,
Deputy Assistant Secretary for Antidumping and Countervailing Duty Operations.

[FR Doc. 2023-01916 Filed 1-30-23; 8:45 am]

BILLING CODE 3510-DS-P